DEPARTMENT OF HEALTH AND HUMAN SERVICES

National Institutes of Health

Center for Scientific Review; Amended Notice of Meeting

Notice is hereby given of a change in the meeting of the Skeletal Muscle and Exercise Physiology Study Section, October 10, 2013, 8:00 a.m. to October 11, 2013, 5:00 p.m., Residence Inn Washington DC, 1199 Vermont Avenue NW., Washington, DC 20005 which was published in the Federal Register on September 11, 2013, 78 FR 55753.

The meeting will be held at the Virginian Suites Arlington, 1500 Arlington Blvd., Arlington, VA 22209. The meeting will start on November 11, 2013 at 8:00 a.m. and end on November 12, 2013 at 1:00 p.m. The meeting is closed to the public.

Dated: October 25, 2013.
Carolyn A. Baum,
Program Analyst, Office of Federal Advisory Committee Policy.

[FR Doc. 2013-25678 Filed 10-29-13; 8:45 am]

BILLING CODE 4140-01-P